DEPARTMENT OF LABOR

Agency Information Collection Activities; Comment Request; Nondiscrimination Compliance Information Reporting

AGENCY: United States Department of Labor—Office of the Assistant Secretary for Administration and Management (DOL-OASAM).

ACTION: Notice of information collections and request for comments.

SUMMARY: In compliance with the Paperwork Reduction Act of 1995, the DOL is soliciting public comments regarding this OASAM-sponsored information collection to the Office of Management and Budget (OMB) for review and approval.

DATES: Comments pertaining to this information collection are due on or before January 11, 2021.

ADDRESSES:

Electronic submission: You may submit comments and attachments electronically at http://www.regulations.gov. Follow the online instructions for submitting comments.

Mail submission: 200 Constitution Ave. NW, Room S-5315, Washington, DC 2020.

Comments are invited on: (1) Whether the collection of information is necessary for the proper performance of the functions of the DOL, including whether the information will have practical utility; (2) if the information will be processed and used in a timely manner; (3) the accuracy of the DOL's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION: The Department of Labor collects the Nondiscrimination Compliance Information Reporting data to help ensure a recipient of certain DOL Federal financial assistance programs does not discriminate in the administration, management, or operation of programs and activities. Activities covered by this information collection include:

• A grant applicant providing assurance that the applicant is aware of and, as a condition of receipt of Federal financial assistance, agrees to comply with the assurance requirements;

• a DOL funds recipient maintaining a record of E.O. characteristics data and a log of any E.O. complaints for activities under an applicable DOL funded program;

• a person who believes a relevant E.O. requirement may have been violated filing a complaint with either the funds recipient or with the DOL Civil Rights Center;

• a State periodically filing a plan outlining administrative methods the State will use to ensure funds are not used in a discriminatory manner; and

• a DOL funds recipient posting required notices.

The DOL seeks PRA authorization for this information collection for three (3) years. OMB authorization for an Information Collection Review cannot be for more than three (3) years without renewal. The DOL notes that currently approved information collection requirements submitted to the OMB receive a month-to-month extension while they undergo review.

Agency: DOL-OASAM.

Title of Collection: Nondiscrimination Compliance Information Reporting.

OMB Control Number: 1225-0077.

Total Estimated Number of Respondents: 69,603.

Total Estimated Number of Responses: 56,425,453.

Total Estimated Annual Time Burden: 350,450 hours.

Total Estimated Annual Other Costs Burden: $0.

Authority: 44 U.S.C. 3506(c)(2)(A).

Dated: November 5, 2020.
Anthony May,
Management and Program Analyst.

[FR Doc. 2020-25009 Filed 11-10-20; 8:45 am]

BILLING CODE 4510-04-P